DEPARTMENT OF JUSTICE

Notice of Lodging of Proposed Consent Decree Under the Clean Air Act

On July 19, 2018, the Department of Justice lodged a proposed Consent Decree with the United States District Court for the District of Alaska, Fairbanks Division, in the lawsuit entitled United States of America v. Golden Valley Electric Association, Inc., Civil Action No. 3:18-cv-00162-SLG.

The Complaint initiating this matter seeks injunctive relief and civil penalties for alleged violations of the Clean Air Act, 42 U.S.C. 7401 et seq., and regulations promulgated thereunder at an electric utility owned and operated by Golden Valley Electric Association, Inc. (“GVEA”) in Healy, Alaska. More specifically, the Complaint alleges that GVEA violated the Mercury Air Toxics Standard (“MATS”) by emitting mercury from one of its electric generating units in excess of the applicable emissions limit and failing to timely report those emissions.

Under the proposed Consent Decree, GVEA has agreed to pay a civil penalty to the United States, to comply with applicable emissions limits, to install and operate an emissions monitoring system, and to report to EPA, semi-annually, specified information enabling EPA to determine GVEA's compliance with the Consent Decree and the Clean Air Act.

The publication of this notice opens a period for public comment on the Consent Decree. Comments should be addressed to the Assistant Attorney General, Environment and Natural Resources Division, and should refer to United States of America v. Golden Valley Electric Association, Inc., D.J. Ref. No. 90-5-2-1-10615/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $10.50 (25 cents per page reproduction cost) payable to the United States Treasury.

Susan M. Akers,
Assistant Section Chief, Environmental Enforcement Section, Environment and Natural Resources Division.

[FR Doc. 2018-15947 Filed 7-25-18; 8:45 am]

BILLING CODE 4410-15-P